ENVIRONMENTAL PROTECTION AGENCY

[FRL-6944-3]

Notification of Application Acceptance Period for the National Environmental Achievement Track

AGENCY: Environmental Protection Agency (EPA).

ACTION: Acceptance of National Environmental Achievement Track Applications.

SUMMARY: The Office of Policy, Economics, and Innovations announces that applications for the National Environmental Achievement Track (Achievement Track) will be accepted February 1, 2001 through April 30, 2001. Achievement Track, the first level of the National Environmental Performance Track, recognizes top public and private facilities that go beyond compliance with regulatory requirements and encourages high levels of environmental performance and management that benefit people, communities, and the environment.

The application form and instructions for completing an application for the Achievement Track can be found on the web at http://www.epa.gov/performancetrack/apps/app.htm or hard copies can be requested by calling the Performance Track Information Center at 1-888-339-7875. Applications are used to establish that the facility meets the four requirements necessary to be named as a participant in the Achievement Track. The entry criteria require that the applying facility:

• Has adopted and implemented an environmental management system (EMS) that includes policy, planning, implementation and operation, checking and corrective action, and management review;

• Is able to demonstrate specific environmental achievements and commit to continued improvement;

• Commits to public outreach and performance reporting; and

• Has a record of sustained compliance with environmental requirements.

EPA uses the information in the application, the results of a compliance screen, and information from consultations with EPA regional offices, State agencies, and community references in evaluating a facility's qualifications.

FOR FURTHER INFORMATION CONTACT: The Performance Track Information Center at 1-888-339-7875 or e-mail ptrack@indecon.com. You may also contact Julie Spyres at 202-260-6787 or e-mail her at spyres.julie@epa.gov. Detailed information is available in the Federal Register Notice posted July 6, 2000, FRL-6730-5, Program Description of the National Environmental Achievement Track or visit the web site at www.epa.gov/performancetrack.

SUPPLEMENTARY INFORMATION: The National Environmental Achievement Track was launched in June 26, 2000. Applications were first accepted from July 5, 2000 through September 30, 2000. More than 250 facilities applied, and 228 were approved as Charter Members of the National Environmental Achievement Track. Current members are listed at www.epa.gov/performancetrack/particip/particip.htm. Benefits for participation in the Achievement Track include:

• National Recognition

• Administrative Streamlining

• Information Exchange

• Reduced Reporting and Monitoring

E-mailed complete the application package (an application and environmental checklist) to ptrack@indecon.com no later than April 30, 2001. When the application package is submitted by e-mail, the Self-Certification page with an authorizing signature must be faxed (1-617-354-0463) or mailed to: Performance Track Information Center c/o Industrial Economics Incorporated 4th Floor, 2067 Massachusetts Avenue, Cambridge, MA 02140.

Mail application packages completed in hard copy to the Performance Track Information Center address above, postmarked no later than April 30, 2001.

Dated: February 5, 2001.
Alex Cristofaro,
Office Director, Office of Business and Community Innovation.

[FR Doc. 01-3731 Filed 2-13-01; 8:45 am]

BILLING CODE 6560-50-U